DEPARTMENT OF HOMELAND SECURITY

Coast Guard

33 CFR Part 117

[Docket No. USCG-2010-0185]

Drawbridge Operation Regulation; Atlantic Intracoastal Waterway, Albemarle and Chesapeake Canal, Chesapeake, VA

AGENCY: Coast Guard, DHS.

ACTION: Notice of temporary deviation from regulations.

SUMMARY: The Commander, Fifth Coast Guard District, has issued a temporary deviation from the regulations governing the operation of the SR170 Centerville Turnpike Bridge across the Atlantic Intracoastal Waterway, Albemarle and Chesapeake Canal, mile 15.7, at Chesapeake, VA. The deviation is necessary to facilitate structural repairs to the swing span. This deviation allows the drawbridge to remain in the closed to navigation position.

DATES: This deviation is effective from 8 a.m. on April 10, 2010 to 6 p.m. on April 18, 2010.

ADDRESSES: Documents mentioned in this preamble as being available in the docket USCG-2010-0185 and are available online by going to http://www.regulations.gov, inserting USCG-2010-0185 in the “Keyword” box, and then clicking “Search”. This material is also available for inspection or copying the Docket Management Facility (M-30), U.S. Department of Transportation, West Building Ground Floor, Room W12-140, 1200 New Jersey Avenue, SE., Washington, DC 20590, between 9 a.m. and 5 p.m., Monday through Friday, except Federal Holidays.

FOR FURTHER INFORMATION CONTACT: If you have questions on this rule, call or e-mail Mr. Bill H. Brazier, Bridge Management Specialist, Fifth Coast Guard District; telephone (757) 398-6422, e-mail Bill.H.Brazier@uscg.mil. If you have questions on reviewing the docket, call Renee V. Wright, Program Manager, Docket Operations, (202) 366-9826.

SUPPLEMENTARY INFORMATION: The City of Chesapeake, who owns and operates this swing-type bridge, has requested a temporary deviation from the current operating regulations set out in 33 CFR 117.997(i), to facilitate structural repairs.

The SR170 Centerville Turnpike Bridge has a vertical clearance in the closed position to vessels of four feet above mean high water.

Under this temporary deviation, the drawbridge will be maintained in the closed to navigation position to facilitate repairs to structural support stringers on two separate closures. The first closure period will begin at 8 a.m. April 10, 2010, until and including 6 p. m. April 11, 2010; and the second closure period scheduled to begin at 8 a.m. on April 17, 2010, until and including 6 p.m. on April 18, 2010. Openings will be provided during the closure periods at the following times: on Saturdays at 8 a.m., 10 a.m., noon, 2 p.m., 4 p.m., 6 p.m., 8 p.m., and 10 p.m., and on Sundays at midnight, 2 a.m., 4 a.m., 6 a.m., 8 a.m., 10 a.m., noon, 2 p.m., 4 p.m., and 6 p.m.

The Atlantic Intracoastal Waterway caters to a variety of vessels from tug and barge traffic to recreational vessels traveling from Florida to Maine. The Coast Guard has carefully coordinated the restrictions with commercial and recreational waterway users. Additionally, the Coast Guard will inform unexpected users of the waterway through our local and broadcast Notices to Mariners of the closure periods for the bridge so that vessels can arrange their transits to minimize any impacts caused by the temporary deviation. The Atlantic Ocean is the alternate route for vessels and the bridge will be able to open in the event of an emergency.

In accordance with 33 CFR 117.35(e), the draw must return to its original operating schedule immediately at the end of the designated time period. This deviation from the operating regulations is authorized under 33 CFR 117.35.

Dated: March 17, 2010.
Waverly W. Gregory, Jr.,
Chief, Bridge Administration Branch, Fifth Coast Guard District.

[FR Doc. 2010-7244 Filed 3-30-10; 8:45 am]

BILLING CODE 9110-04-P